DEPARTMENT OF TRANSPORTATION

Federal Aviation Administration

14 CFR Part 73

[Docket No. FAA-2017-0886; Airspace Docket No. 16-ASO-11]

Amendment of Restricted Areas R-3004A and R-3004B and Establishment of R-3004C; Fort Gordon, GA

AGENCY: Federal Aviation Administration (FAA), DOT.

ACTION: Final rule.

SUMMARY: This action modifies the restricted areas at Fort Gordon, GA to further subdivide the vertical limits of the airspace. The designated altitudes for R-3004A and R-3004B are realigned and a new subarea, designated R-3004C, is established above R-3004B. The FAA is taking this action to allow for more efficient use of the airspace during periods when military activities only require restricted airspace below 3,500 feet MSL. The modifications are fully contained within the existing lateral and vertical boundaries of the restricted airspace.

DATES: Effective date: 0901 UTC, December 7, 2017.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority since it vertically subdivides the restricted airspace at Fort Gordon, GA, into three sections to enable more efficient use of airspace.

Background

The restricted airspace at Fort Gordon, GA consists of R-3004A, extending from the surface to 7,000 feet MSL; and R-3004B, extending from 7,001 feet MSL to 16,000 feet MSL. The time of designation for both areas is as activated by NOTAM 24 hours in advance.

A FAA review of the utilization of the airspace revealed that most activities being conducted only require restricted airspace below 3,500 feet MSL. However, when R-3004A was activated, restrictions were in effect up to 7,000 feet MSL.

While lateral boundaries of the restricted airspace remain the same as currently charted and the overall vertical limits of the restricted airspace are unchanged, in order to provide for more efficient use of airspace, the FAA and the using agency agreed to further subdivide the restricted airspace vertically. The FAA is realigning the designated altitudes for R-3004A and R-3004B and establishing R-3004C as a third subdivision. The new configuration enables activation of restricted airspace to the lower altitude required for the majority of the using agency's training needs while maintaining the ability to activate additional restricted airspace for missions that require higher altitudes.

The designated altitudes for R-3004A are amended to read “surface to but not including 3,500 feet MSL” (decreased from 7,000 feet MSL). The designated altitudes for R-3004B are amended to read “3,500 feet MSL to but not including 7,000 feet MSL,” instead of the current “7,001 feet MSL to 16,000 feet MSL.” This amendment also established a third subdivision, designated R-3004C, which extends from 7,000 feet MSL to 16,000 feet MSL. These changes accommodate the using agency's requirements while releasing unneeded restricted airspace for access by other users.

In addition, the aircraft activity limitations on use of the areas are amended to clarify the limitations in effect during the annual Masters Golf Tournament.

These changes enhance the efficient use of the National Airspace System by providing for activation of the minimum amount of restricted airspace needed for the specific mission being conducted resulting in the release of unneeded restricted airspace for access by other users.

The Rule

This rule amends Title 14 Code of Federal Regulations (14 CFR) part 73 by further dividing the current restricted airspace at Fort Gordon, GA, into three subareas instead of two. The designated altitudes for R-3004A are amended from the current “surface to 7,000 feet MSL,” to “surface to but not including 3,500 feet MSL.” The designated altitudes for R-3004B are amended from the current “7,001 feet MSL to 16,000 feet MSL” to “3,500 feet MSL to but not including 7,000 feet MSL.” A new third subdivision, designated R-3004C, is established and extends from 7,000 feet MSL to 16,000 feet MSL.”

Additionally, the terms and conditions listed in the restricted area legal descriptions for aircraft activities in the restricted areas are revised, in part. Specifically, in order to clarify aircraft operations during the annual Masters Golf tournament, the text of item number 1 is changed from “1. Aircraft activities may not be conducted on weekends, National holidays, or the entire week of the Masters Golf Tournament” to: “1. Aircraft activities must not be conducted on weekends, national holidays, or from the Sunday prior to the Masters Golf Tournament through the Monday after (and subsequent weather days if required).” The terms and conditions in Items 2 and 3 remain unchanged.

The above modifications enhance the efficient use of airspace and reduce the burden on the public by lessening the amount of restricted airspace at Fort Gordon, GA, that is activated on a routine basis. These modifications do not change the current lateral boundaries, overall designated altitudes, or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of vertically subdividing limits of existing restricted airspace within the current lateral and vertical limits qualifies for categorical exclusion under the National Environmental Policy Act and in accordance with FAA Order 1050.1F—Environmental Impacts: Policies and Procedures, Categorical Exclusions for Procedural Actions, paragraph 5-6.5d—Modification of the technical description of special use airspace (restricted areas) that does not alter the dimensions, altitudes, or times of designation of the airspace. Therefore, this airspace action is not expected to result in any significant environmental impacts. In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.30 [Amended]

2. § 73.30 is amended as follows:

* * * * *

R-3004A Fort Gordon, GA [Amended]

By removing the current designated altitudes and aircraft activity limitations and inserting the following in their places:

Designated Altitudes. Surface to but not including 3,500 feet MSL.

Aircraft activity is limited to the following terms and conditions:

Aircraft activities must not be conducted on weekends, national holidays, or from the Sunday prior to the Masters Golf Tournament through the Monday after (and subsequent weather days if required).

2. Aircraft activities may only be conducted from the surface to 12,000 feet AGL.

3. Weather conditions required for aircraft activities are 5 miles visibility and with prevailing clouds or obscuring phenomena no greater than five-tenths coverage of the sky and bases no lower than 3,000 feet AGL.

R-3004B Fort Gordon, GA [Amended]

By removing the current designated altitudes and aircraft activity limitations and inserting the following in their places:

Designated Altitudes. 3,500 feet MSL to but not including 7,000 feet MSL.

Aircraft activity is limited to the following terms and conditions:

1. Aircraft activities must not be conducted on weekends, national holidays, or from the Sunday prior to the Masters Golf Tournament through the Monday after (and subsequent weather days if required).

2. Aircraft activities may only be conducted from the surface to 12,000 feet AGL.

3. Weather conditions required for aircraft activities are 5 miles visibility and with prevailing clouds or obscuring phenomena no greater than five-tenths coverage of the sky and bases no lower than 3,000 feet AGL.

R-3004C Fort Gordon, GA [New]

Boundaries. Beginning at lat. 33°21′54″ N., long. 82°12′14″ W.; to lat. 33°19′44″ N., long. 82°12′14″ W.; to lat. 33°16′21″ N., long. 82°17′59″ W.; to lat. 33°17′30″ N., long. 82°22′59″ W.; to lat. 33°21′16″ N., long. 82°18′46″ W.; to lat. 33°22′16″ N., long. 82°16′59″ W.; to the point of beginning.

Designated Altitudes. 7,000 feet MSL to 16,000 feet MSL.

Times of designation. By NOTAM 24 hours in advance.

Controlling agency. FAA, Atlanta ARTCC.

Using agency. U.S. Army, Commanding Officer, Fort Gordon, GA.

Aircraft activity is limited to the following terms and conditions:

Aircraft activities must not be conducted on weekends, national holidays, or from the Sunday prior to the Masters Golf Tournament through the Monday after (and subsequent weather days if required).

2. Aircraft activities may only be conducted from the surface to 12,000 feet AGL.

3. Weather conditions required for aircraft activities are 5 miles visibility and with prevailing clouds or obscuring phenomena no greater than five-tenths coverage of the sky and bases no lower than 3,000 feet AGL.

Issued in Washington, DC, on September 19, 2017.
Rodger A. Dean, Jr.,
Manager, Airspace Policy Group.

[FR Doc. 2017-20435 Filed 9-22-17; 8:45 am]

BILLING CODE 4910-13-P